CONSUMER PRODUCT SAFETY COMMISSION

Sunshine Act Meeting Notice

TIME AND DATE: Wednesday, December 15, 2010, 10 a.m.-12 Noon.

PLACE: Hearing Room 420, Bethesda Towers, 4330 East West Highway, Bethesda, Maryland.

STATUS: Commission Meeting—Open to the Public

Matter To Be Considered

Decisional Matter: Full-Sized and Non-Full-Sized Cribs—Final Rules.

A live webcast of the Meeting can be viewed at http://www.cpsc.gov/webcast. For a recorded message containing the latest agenda information, call (301) 504-7948.

CONTACT PERSON FOR MORE INFORMATION: Todd A. Stevenson, Office of the Secretary, U.S. Consumer Product Safety Commission, 4330 East West Highway, Bethesda, MD 20814, (301) 504-7923.

Dated: December 7, 2010.
Todd A. Stevenson,
Secretary.

[FR Doc. 2010-31350 Filed 12-9-10; 4:15 pm]

BILLING CODE 6355-01-P